DEPARTMENT OF AGRICULTURE

Natural Resources Conservation Service

[Docket No. NRCS-2020-0008]

Proposed Revisions to the National Handbook of Conservation Practices for the Natural Resources Conservation Service

AGENCY: Natural Resources Conservation Service (NRCS), U.S. Department of Agriculture (USDA).

ACTION: Notice of availability; reopening and extension of comment period.

SUMMARY: NRCS is announcing the reopening and 2-week extension of the comment period to give the public an opportunity to provide comments on specified conservation practice standards in National Handbook of Conservation Practices (NHCP). The comment period will end on April 22, 2021.

DATES: Comment Date: We will consider comments that we receive by April 22, 2021. The comment period for the notice published on March 9, 2021 (86 FR 13522-13524) is reopened.

ADDRESSES: We invite you to submit comments on this notice. You may submit comments through the:

• Federal eRulemaking Portal: Go to http://www.regulations.gov and search for docket ID NRCS-2020-0008. Follow the instructions for submitting comments.

• Mail, or Hand Delivery: Mr. Clarence Prestwich, National Agricultural Engineer, Conservation Engineering Division, NRCS, USDA, 1400 Independence Avenue, South Building, Room 4636, Washington, DC 20250. In your comment, specify the docket ID NRCS-2020-0008.

All comments will be available on http://www.regulations.gov.

The copies of the proposed revised standards are available through http://www.regulations.gov by accessing Docket No. NRCS-2020-0008. Alternatively, the proposed revised standards can be downloaded or printed from http://go.usa.gov/TXye.

FOR FURTHER INFORMATION CONTACT: Mr. Clarence Prestwich; telephone: (202) 720-2972; or email: clarence.prestwich@usda.gov.

SUPPLEMENTARY INFORMATION: NRCS is reopening and extending the comment period on the National Handbook of Conversation Practices (NHCP). The initial notice was published on March 9, 2021 (86 FR 13522-13524). The comment period closed on April 8, 2021. NRCS is reopening and extending the comment period and will accept comments received by April 22, 2021.

NRCS is planning to revise the conservation practice standards in the NHCP. The notice published March 9, 2021 (86 FR 13522-13524), included an overview of the planned changes and gives the public an opportunity to provide comments on the specific conservation practice standards that NRCS is changing.

Terry Cosby,
Acting Chief, Natural Resources Conservation Service.

[FR Doc. 2021-07686 Filed 4-14-21; 8:45 am]

BILLING CODE 3410-16-P